FEDERAL COMMUNICATIONS COMMISSION

Notice of Public Information Collection(s) Being Reviewed by the Federal Communications Commission

February 16, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 27, 2000. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0809.

Title: Communications Assistance for Law Enforcement Act (CALEA), Report and Order and Order on Reconsideration.

Form No.: Not applicable.

Type of Review: Extension to a currently approved collection.

Respondents: Business or other for-profit.

Number of Respondents: 5,000 respondents; 6,000 responses.

Estimated Time Per Response: 6 hours.

Frequency of Response: Recordkeeping and on occasion reporting requirement.

Total Annual Burden: 36,000 hours.

Total Annual Cost: N/A.

Needs and Uses: A Report and Order (R&O) considering the proposals made in the Notice of Proposed Rulemaking (NPRM) was adopted by the Commission in January 1999. The R&O made certain revisions to the burdens approved in the NPRM, chiefly to make them as effective as possible with minimum negative impact on telecommunications carriers.

The R&O requires that telecommunications carriers: establish and submit to the Commission their policies and procedures for ensuring that any interception of communications or access to call-identifying information effected within its switching premises can be activated only in accordance with lawful authorization and with the affirmative intervention of an individual officer or employee of the carrier, acting in accordance with regulations prescribed by the Commission. This submission must include information regarding the appointment of any individual whose job function will include being a point of contact for law enforcement to reach on a daily, around-the-clock basis, including a description of that individual's job function and a method of contacting that individual. The Commission did not adopt a proposal contained in the NPRM to establish less burdensome filing requirements for submission of policies and procedures by smaller carriers, finding that CALEA does not make a distinction between carriers based on size, for the purpose of determining who must submit their policies and procedures to the Commission. The Commission must review carriers' policies and procedures to determine whether they are in compliance with the rules established in CALEA. If the Commission determines that any carrier's policies and procedures are non-compliant, the carrier shall modify its policies and procedures accordingly.

The R&O also established certification and recordkeeping requirements covering each interception of communications or access to call-identifying information, made with or without appropriate authorization. The certification requirement could be met by having the designated company liaison sign the certification statement, verifying that the records are complete and accurate, and attaching the appropriate legal authorization, as well as any extensions that have been granted. The R&O adopted a two-tiered recordkeeping requirement. It mandated that telecommunications carriers maintain records of call-identifying information and unauthorized interceptions for ten years; it required carriers to maintain records relating to the content of each authorized interception of communications for a period of time determined by them in accordance with the policies and procedures that they establish under section 229(b) of the Communications Act and applicable state and federal statutes of limitation. The R&O then required that carriers include in their policies and procedures, submitted to the Commission for review, a detailed description of how long they will maintain their record of interception, and reasonable justification for the time period that carriers choose for their individual record retention. The R&O noted that the Commission retains authority to modify any carrier's policy or procedure that is determined not to be in compliance with these regulations.

The Order revises the recordkeeping obligations adopted in the R&O by finding that carriers need not retain the content or call-identifying information of any interceptions of communications. Thus, it replaces the requirement that carriers maintain records of unauthorized interceptions for ten years with one that allow the carriers to maintain the certification, as is the case with authorized interceptions, for a “reasonable period of time”.

The Office of Management and Budget (OMB) approved the revised information collection burdens in the R&O and the Order on 2/2/00. This temporary approval expires at the end of April 2000. The Commission is thus seeking a full three-year extension of approval. The Commission will use the information submitted to determine whether or not the telecommunications carriers are in conformance with CALEA's requirements and the Commission's Rules. Law enforcement officials will use the information maintained by telecommunications carriers to determine the accountability and accuracy of telecommunications carriers' compliance with lawful electronic surveillance orders.

Federal Communications Commission.
Magalie Roman Salas,
Secretary.

[FR Doc. 00-4385 Filed 2-24-00; 8:45 am]

BILLING CODE 6712-01-P